DEPARTMENT OF TRANSPORTATION

Federal Aviation Administration

14 CFR Part 71

[Docket No. FAA-2006-24813; Airspace Docket No. 06-AAL-16]

Modification of Legal Description of Class D and E Airspace; Fairbanks, Fort Wainwright Army Airfield, AK

AGENCY: Federal Aviation Administration (FAA), DOT.

ACTION: Direct final rule; confirmation of effective date.

SUMMARY: The U.S. Army will soon be changing the name of Fort (Ft.) Wainwright Army Airfield (AAF) to Ladd AAF. This action amends the airport name accordingly for each of the Class D and Class E airspace descriptions in FAA Order 7400.9N. This action also amends an altitude omission which currently does not exist in the FAA Order 7400.9N. This action also redefines the airspace description to account for recent updates to the airfield coordinates.

DATES: This direct final rule is effective on 0901 UTC, November 23, 2006.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION: The FAA published this direct final rule with a request for comments in the Federal Register on Monday, July 17, 2006 (71 FR 40394). The FAA uses the direct final rulemaking procedure for non-controversial actions where the FAA believes that there will be no adverse public comment. The direct final rule advised the public that no adverse comments were anticipated, and that unless a written adverse comment, or a written notice of intent to submit such an adverse comment, were received within the comment period, the regulation would become effective on November 23, 2006.

One comment was received via telephone, in which the person voiced opposition to the name change. That opinion is not within the scope of this action, in that it does not address any aeronautical effect. His complaint is with the U.S. Army's decision to change the name. This action essentially addresses the title of the airspace annoted in the the FAA Order 7400.8. No other adverse comments were received. This notice confirms that the rule will become effective on that date.

Issued in Anchorage, AK, on August 28, 2006.
Anthony M. Wylie,
Director, Alaska Flight Service Information Office.

[FR Doc. E6-14821 Filed 9-6-06; 8:45 am]

BILLING CODE 4910-13-P